DEPARTMENT OF AGRICULTURE

Forest Service

Gila National Forest, Quemado Ranger District; New Mexico; Luna Restoration Project

AGENCY: Forest Service, USDA.

ACTION: Notice of intent to prepare an environmental impact statement.

SUMMARY: The Gila National Forest will prepare an Environmental Impact Statement to evaluate a proposed action on a landscape level project to improve forest health within 185,586 acres Luna planning area on the Quemado Ranger District.

The full text and maps of the proposed action will be located on the Forest's Web site at http://www.fs.usda.gov/detail/gila/home/?cid=STELPRD3828973.

DATES: Comments concerning the scope of the analysis must be received by July 5, 2016. The draft environmental impact statement is expected December, 2016 and the final environmental impact statement is expected July 2017.

ADDRESSES: Send written comments to Quemado Ranger District, ATTN: District Ranger, P.O. Box 159, Quemado, NM 87829. Comments may also be sent via email to comments-southwestern-gila-quemado@fs.fed.us, or via facsimile to 575-773-4114.

An Open House is scheduled for Wednesday June 8, 2016, 5 to 7 p.m. at the Luna Community Center, Luna, NM.

FOR FURTHER INFORMATION CONTACT: Emily Irwin, District Ranger, Quemado Ranger District, at (575) 773-4678 or comments-southwestern-gila@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Luna Restoration Project is to create and maintain a healthy resilient landscape and watersheds capable of delivering benefits to the public including clean air and water, habitat for native fish and wildlife, forest products, and outdoor recreation opportunities. There is a need to:

• Reduce the impacts of high severity fire on natural and cultural resources, private inholdings, communities, infrastructure, and livelihoods within the planning area;

• Implement vegetative treatments to restore departed landscapes that are overstocked, encroached, and at risk to fire, disease, insects, and other climate stressors;

• Implement treatments in watershed that are not properly functioning;

• Improve water quality by hardening stream crossings and performing road maintenance;

• Continue to provide the wide range of forest products that are important to the culture, tradition and livelihoods of local communities;

• Protect and restore threatened and endangered species and habitat;

• Provide opportunities for OHV use, enjoyment, and access from the community of Luna;

• Provide permanent water to support wildlife and livestock; and

• Improve rangeland, wildlife, aquatic and riparian habitat.

Proposed Action

In response to the purpose and need, the Gila National Forest proposes to conduct a wide variety of restoration, maintenance, and improvement projects within the Luna planning area (185,570 acres) on the Quemado Ranger District.

Vegetation treatments would be accomplished by hand or mechanized equipment, cutting trees individually or in groups. Maintenance and restoration activities are prosed on approximately 73,446 acres of woodland (e.g. pinyon juniper, pinyon pine) and forest (ponderosa pine and mixed conifer) stands.

Grassland maintenance and restoration treatments are proposed on approximately 23,373 acres. Ponderosa pine and pinyon juniper have encroached, become established, and continue to spread into the grasslands. Proposed activities consist of cutting ponderosa pine and pinyon-juniper by hand or mechanized equipment, to reduce tree canopy cover to less than 10% in grasslands.

Rabbit brush treatment consists of mowing with rubber tired equipment during the dormant season (late fall to early winter) on approximately 100 acres for consecutive years to improve rangeland condition on the Centerfire Allotment. An additional 100 to 1,000 acres may be treated depending on monitoring results of the initial 100 acres.

Thin small diameter trees <9 inches, pile burn or broadcast burn approximately 1,464 acres within Mexican Spotted Owl protected activity centers. No activities would take place between March 1 to August 31 to avoid disturbance during breeding season.

Cut and prescribe burn Gambel oak and mountain mahogany stands to promote new growth and sprouting in various locations across the planning area for wildlife, especially game species. This would be accomplished with other vegetation and fuel treatments.

Fall snags over approximately 1,955 acres within the Wallow Fire (2011) for site preparation (planting or natural regeneration of trees). Snags would be cut by hand or by mechanical equipment and piled, decked, removed and/or left where felled. Decks may be burned.

Use prescribe fire exclusively to treat approximately 12,898 acres to maintain and/or reduce fuel loadings. Use prescribe fire in areas identified for vegetation treatments (approximately 70,000 to 100,000 acres). Prescribed fire can be implemented prior and after proposed vegetation treatments. Areas identified for prescribed fire are available for re-entry if objectives are not fully achieved as a result of initial treatments or for maintenance

Improve and restore stream and riparian habitat through various activities such as constructing exclosures, planting riparian species, installing bank stabilization structures; removing invasive or non-native plant species; placing weirs to restore channel gradient; improving stream crossing, and installing and/or upgrading road drainage features.

Add new or upgrade existing water systems on the Luna, Centerfire, and Mangitas allotments to increase livestock and wildlife distribution to benefit rangeland conditions, including watershed, soils, and stream resources.

Conduct heavy maintenance and upgrade drainage features on forest roads to improve water quality. Harden crossings on roads and motorized trails to improve accessibility and reduce impacts to aquatic species and habitat.

Decommission approximately 121 miles of closed roads to improve watershed condition and reduce wildlife habitat fragmentation. Decommission user created routes within the planning area.

Add and designate approximately 20 miles of routes for ATV use, creating loop and connector route opportunities around the Luna Community.

Responsible Official

Gila Forest Supervisor.

Nature of Decision To Be Made

The decision to be made will be whether or not to implement the proposed action or an alternative to the proposed action and what mitigation measures would be required. The Forest Supervisor will also decide which forest project-level plan amendments to adopt.

Scoping Process

This notice of intent initiates the scoping process, which guides the development of the environmental impact statement. An Open House is scheduled for Wednesday June 8, 2016, 5 to 7 p.m. at the Luna Community Center, Luna, NM to provide an opportunity to review project maps, ask questions, and provide input to the proposed project.

It is important that reviewers provide their comments at such times and in such a manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 10, 2016.
Adam Mendonca,
Forest Supervisor.

[FR Doc. 2016-11801 Filed 5-18-16; 8:45 am]

BILLING CODE 3410-11-P